DEPARTMENT OF AGRICULTURE

Natural Resources Conservation Service

Big Cedar Creek Watershed, Floyd and Polk County, GA

AGENCY: Natural Resources Conservation Service.

ACTION: Notice of a finding of no significant impact.

SUMMARY: Pursuant to Section 102(2)(c) of the National Environmental Policy Act of 1969, the Council on Environmental Quality Regulations (40 CFR part 1500); and the Natural Resources Conservation Service Regulations (7 CFR part 650); the Natural Resources Conservation Service, U.S. Department of Agriculture, gives notice that an environmental impact statement is not being prepared for the Big Cedar Creek Watershed Floyd and Polk County, Georgia.

FOR FURTHER INFORMATION CONTACT: Cran Upshaw, Economist, Natural Resources Conservation Service, Federal Building, 355 East Hancock Avenue, Athens, Georgia 30601, Telephone (706) 546-2277, E-Mail cran.upshaw@ga.usda.gov.

SUPPLEMENTARY INFORMATION: The Environmental Assessment of this federally assisted action indicates that the project will not cause significant local, regional, or national impacts on the environment. As a result of these findings, James E. Tillman Sr., State Conservationist, has determined that the preparation and review of an environmental impact statement is not needed for this project.

The project purpose is continued flood prevention. The planned works include measures for the control of agricultural animal waste related pollution.

The Notice of a Finding of No Significant Impact [FONSI] has been forwarded to the U.S. Environmental Protection Agency and to various Federal, State, and local agencies and interest parties. A limited number of the FONSI are available to fill single copy requests at the above address. Basic data developed during the environmental assessment are on file and may be reviewed by contacting Cran Upshaw at the above number.

No administrative action on implementation of the proposal will be taken until 30 days after the date of this publication in the Federal Register.

James E. Tillman, Sr.,
State Conservationist.

(This activity is listed in the Catalog of Federal Domestic Assistance under 10.904, Watershed Protection and Flood Prevention, and is subject to the provisions of Executive Order 12372, which requires inter-government consultation with State and local officials).

Finding of No significant Impact for Big Cedar Creek Watershed, Floyd and Polk Counties, GA, July 2005

Introduction

The Big Cedar Creek Watershed is a federally assisted action authorized for planning under Public Law 83-566, the Watershed Protection and Flood Prevention Act. An environmental assessment was undertaken in conjunction with the development of the revised watershed plan. This assessment was conducted in consultation with local, State, and Federal agencies as well as with interested organizations and individuals. Data developed during the assessment are available for public review at the following location:

U.S. Department of Agriculture, Natural Resources Conservation Service, 355 East Hancock Avenue, Athens, Georgia 30601.

Recommended Action

This document describes a revised plan for Watershed Protection and improvement of water quality and includes measures for the control of agricultural animal waste related pollution. The revised plan reduces excessive animal waste and associated nutrients and bacteria entering waterways from about 37 beef and 4 dairy operations. The plan also provides measures to reduce nutrient runoff and improve forage quality on 1,700 acres of pastureland. This will be accomplished by providing financial and technical assistance through a local sponsor.

The principal project measures are to: 1. Develop and install approximately 41 animal waste management systems covering 1,700 acres of pastureland and adjoining stream banks which will include all or parts of the following: fencing, cross fencing with gates, alternative livestock water supply with piping and troughs, stream crossings, filter strips, and heavy use protection areas on 37 beef and 4 dairy operations to control and utilize manure. Conservation management with nutrient and grazing land management practices will be used when applying animal waste.

2. The measures will be planned and installed by developing long-term contracts with landowners.

Effects of Recommended Action

Installation of animal waste management measures and grazing land practices will reduce offsite nutrient, bacteria, sediment and chemical damages and increase utilization of nutrients onsite. The results will be a significant reduction in current impairments to the area's water quality, biological habitats, recreational opportunities and improvement of long-term productivity and quality of pastureland in the watershed. Installation of the selected plan will also provide local and regional employment, promote rural economic development in the drainage area, and assist local land users in complying with the conservation provision of the Food Security Act of 1985.

The project measures will reduce agricultural related nutrients, bacteria and sediment entering watershed streams, the Big Cedar Creek embayment of Weiss Lake in Alabama and also minimize the impact on surface and ground water quality by:

—Reducing the 53 tons of nitrogen and 11 tons of phosphorus from animal waste delivered annually by an average of 42%.

—Providing a significant reduction in the amount of fecal coliform and sediment delivered annually to area waterways, thus improving biological habitats, recreational opportunities, and real estate values.

Grazing land practices will increase forage productivity through improved management and utilizing waste more efficiently. This will reduce stream enrichment and conserve the nutrients for plant production. The proposed plan will also encourage and promote the agricultural enterprises in the watershed through improved efficiency.

Wildlife habitat will not be disturbed during installation of animal waste systems and grazing land practices. No wetlands, wildlife habitat, fisheries, prime farmland, or cultural resources will be destroyed or threatened by this project. Conversions to permanent vegetation will provide a more diverse upland game habitat. The value of woodland habitat will not decline. Fishery habitats will also be maintained.

No endangered or threatened plant or animal species will be adversely affected by the project.

There are no wilderness areas in the watershed.

Scenic values will be complemented with improved riparian quality and cover conditions resulting from the installation of conservation animal waste management system and grazing land practices.

Alternatives

Three alternative plans, that included 49 combinations of systems and practices, were considered in project planning. No significant adverse environmental impacts are anticipated from installation of the selected alternative. Also, the planned action is the most practical and cost effective means of protecting the watershed by managing animal waste and stabilizing pasture land.

Consultation—Public Participation

Water quality concerns in the Big Cedar Creek Watershed were expressed by local citizens, Coosa River Soil and Water Conservation District, other regional residents. NRCS personnel in partnership with interagency team members from the U.S. Fish and Wildlife Service (F&WS), Georgia Department of Natural Resources (DNR) and Environmental Protection Division (EPD), the Georgia Cooperative Extension Service (CES) made a watershed assessment and evaluated existing water quality data. The team determined that agricultural related water quality problems were negatively effecting the watershed and the region's air, plant, animal, soil, and water resources. With these concerns identified, the team agreed that a watershed approach to provide assistance to operators would help solve the problems.

The Sponsors requested NRCS planning assistance under PL-566 authority for a revised plan. Requests were also made to other USDA agencies to assist in reducing the growing water quality problems. The Georgia Cooperative Extension Service (CES) has been asked to assist in developing nutrient and pesticide management plans.

At the initiation of the planning process, meetings were held with key farmers and District representatives from the watershed area to discuss problem identification, conservation systems and PL-566 requirements. A public meeting was held in April 4, 2003 to scope the problems and concerns and to explain impacts of the PL-566 program initiatives relative to a watershed project and discuss possible solutions.

In order to further publicize this planning effort, a public announcement was made to State and Federal agencies by letter and to local landowners through local newspapers to announce the change in project purpose.

NRCS scheduled an interdisciplinary, interagency team to work with the Sponsor, landowners, and other interested groups. The team was compiled of specialists from F&WS, EPD, CES, and DNR, along with local operators. The team worked in the watershed area and downstream to Harris Reservoir, to gain insight to the magnitude of the problems and possible solutions. Several meetings, group discussions, and interviews were held with local planners, individuals, government officials and other technical experts. Evaluations and alternative solutions were developed with the Sponsor and other officials. The Recommended Plan was agreed upon.

Another public meeting was on March 30, 2004. The results of surveys, studies, field investigations and the Alternatives Plans were presented to the public. The Selected Plan was agreed upon by those in attendance.

In early 2003, representatives of the NRCS, F&WS, DNR, EPD, and CES made a field inspection to determine the quality and quantity of resources that would be impacted by selected practices and to consider possible mitigation measures. It was the consensus of the group that an Environmental Impact Statement (EIS) was not needed for this project. This agreement was based on the type of practices and systems planned and that each would be installed on previously disturbed land. With this consensus, an Environmental Assessment (EA) was prepared accordingly.

Upon review of the Big Cedar Creek Watershed Plan-EA, this Finding of No Significant Impact (FONSI) was prepared. These documents are being distributed to all concerned agencies, groups, and interested individuals. A Notice of Availability of the FONSI is being published in the Federal Register. Agency consolations and public participation to date has shown no conflicts with the implementation of the selected plan.

Conclusion

The Environmental Assessment summarized above indicates that this Federal action will not cause significant adverse local, regional, or national impacts on the environment. Therefore, based on the above findings, I have determined that an environmental impact statement for the recommended Big Cedar Creek Revised Watershed Plan is not required.

Dated: June 28, 2005.
James E. Tillman Sr.,
State Conservationist.

[FR Doc. 05-13716 Filed 7-12-05; 8:45 am]

BILLING CODE 3410-16-P